DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed extension of the “Consumer Price Index Housing Survey.” A copy of the proposed information collection request can be obtained by contacting the individual listed below in the ADDRESSES section of this notice.

DATES: Written comments must be submitted to the office listed in the Addresses section of this notice on or before December 30, 2024.

ADDRESSES: Send comments to Nora Kincaid, BLS Clearance Officer, Division of Management Systems, Bureau of Labor Statistics, Room G225, 2 Massachusetts Avenue NE, Washington, DC 20212. Written comments also may be transmitted by email to BLS_PRA_Public@bls.gov.

FOR FURTHER INFORMATION CONTACT: Nora Kincaid, BLS Clearance Officer, at 202-691-7628 (this is not a toll free number). (See ADDRESSES section.)

SUPPLEMENTARY INFORMATION:

I. Background

Under the direction of the Secretary of Labor, the Bureau of Labor Statistics (BLS) is directed by law to collect, collate, and report full and complete statistics on the conditions of labor and the products and distribution of the products of the same; the Consumer Price Index (CPI) is one of these statistics. The collection of data from a wide spectrum of housing units is essential for the timely and accurate calculation of the Housing component of the CPI.

The Consumer Price Index (CPI) is the only index compiled by the U.S. Government that is designed to measure changes in the purchasing power of the consumer's dollar. The CPI is a measure of the average change in prices over time in a market basket of goods and services. It is calculated monthly for two population groups, one consisting of all urban consumers (CPI-U), and the other consisting of urban wage earners and clerical workers (CPI-W). The CPI-U represents the buying habits of over 90 percent of the population of the United States, while the CPI-W represents approximately 30 percent of the population of the United States.

First, the CPI is used most widely as a measure of inflation and serves as an indicator of the effectiveness of government economic policy. Second, it is also used as a deflator of other economic series, that is, to adjust other series for price changes and to translate these series into inflation-free dollars. Examples include retail sales, hourly and weekly earnings, and components of the Gross Domestic Product.

A third major use of the CPI is to adjust dollar values. Over 2 million workers are covered by collective bargaining contracts, which provide for increases in wage rates based on increases in the CPI. At least nineteen states and the District of Columbia have laws that link the adjustment in State minimum wage to the changes in the CPI. The index affects the income of more than 108 million people as a result of statutory action: over 67 million Social Security beneficiaries and over 41 million Supplemental Nutrition Assistance Program (SNAP) recipients, among other programs. Changes in the CPI also affect the cost of lunches for over 30 million children who eat lunch at school as part of the National School Lunch Program (NSLP). Under the National School Lunch Act and Child Nutrition Act, national average payments for those lunches and breakfasts are adjusted annually by the Secretary of Agriculture on the basis of the change in the CPI series, “Food away from Home.” Many private firms and individuals use the CPI to keep rents, royalties, alimony payments, and child support payments in line with changing prices. Since 1985, the CPI has been used to adjust the Federal income tax structure to prevent inflation-induced tax rate increases.

II. Current Action

Office of Management and Budget clearance is being sought for the Consumer Price Index Housing Survey.

The CPI is the nation's chief source of information on retail price changes. The BLS has made extensive efforts to identify, from other government agencies and the scientific literature, other sources of data. To the BLS's knowledge, there is no duplication of indexes and there is no other series available which performs the function of the CPI.

The CPI Housing Survey is the nation's primary source of information on residential rent change. In addition, the CPI Housing data must be timely and available monthly. No other survey is both as timely and geographically comprehensive. The information provided by the American Housing Survey (AHS), Current Population Survey (CPS) or American Community Survey (ACS) does not meet the CPI's timeliness or geographic requirements.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Consumer Price Index Housing Survey.

OMB Number: 1220-0163.

Type of Review: Extension.

Affected Public: Individuals or Households, Business or other for-profit.

| Annual number of respondents | Number of responses per respondent | Total annual responses | Average burden (hours) | Estimated total burden (hours)
Screening | 26,286 | 1 | 26,286 | 6/60 | 2,629
Initiation | * 6,103 | 1 | 6,103 | 9/60 | 915
Long Pricing | 6,924 | 1 | 6,924 | 7/60 | 808
Short Pricing | 32,681 | 2 | 65,362 | 5/60 | 5,447
Quality Reinterviews | ** 2,648 | 1 | 2,648 | 4/60 | 177
Unduplicated Total | 74,642 |  | 107,323 |  | 9,976
* Initiation activity of 6,103 is included in the Screening number.
** Reinterview activity of 2,648 is included in the Pricing numbers.

Comments submitted in response to this notice will be summarized and/or included in the request for Office of Management and Budget approval of the information collection request; they also will become a matter of public record.

Signed at Washington, DC, on October 23, 2024.
Eric Molina,
Chief, Division of Management Systems, Branch of Policy Analysis.

[FR Doc. 2024-25172 Filed 10-29-24; 8:45 am]

BILLING CODE 4510-24-P